DEPARTMENT OF EDUCATION

Federal Family Education Loan Program

AGENCY: Department of Education.

ACTION: Announcement of guaranty agencies selected to negotiate participation in a Voluntary Flexible Agreement.

SUMMARY: The Secretary announces the guaranty agencies that have been selected as possible participants in Voluntary Flexible Agreements under Section 428A of the Higher Education Act of 1965, as amended (the “HEA”).

FOR FURTHER INFORMATION CONTACT: Mr. Cameron R. Ishaq, Department of Education, Student Financial Assistance, 7th and D Streets SW, Room 4616 Washington, DC 20202, (202) 260-5076.

Individuals with disabilities may obtain this document in an alternate format (e.g., Braille, large print, audiotape, or computer diskette) on request to the contact person listed in the preceding paragraph.

SUPPLEMENTARY INFORMATION: On July 28, 1999, the Secretary published a Notice in the Federal Register (64 FR 40859) inviting guaranty agencies participating in the Federal Family Education Loan (FFEL) Program to apply to participate in the FFEL Program under a Voluntary Flexible Agreement (VFA) as authorized by Section 428A of the HEA. The Notice informed the guaranty agencies of the deadline for submission of the application, the information that needed to be included with the application and an outline of the evaluation and selection process that the Secretary planned to use.

Nine guaranty agencies submitted timely VFA applications. Eight of the agencies made oral presentations to the Secretary's representatives during September and October. The Secretary has evaluated the information provided by the nine agencies in their applications and oral presentations and has selected six agencies with which to try to negotiate a VFA. The selected agencies are identified in this notice.

The Secretary believes that each of the selected VFA applications includes specific proposals that could improve the FFEL Program. However, a number of the applications also include proposals that the Secretary believes are outside the appropriate scope of a VFA or are contrary to the Secretary's policies and goals.

In light of this situation, the Secretary has decided not to publish the selected VFA proposals at this time. The Secretary understands, however, that each of the selected guaranty agencies has made their proposal public. In the list of selected agencies below, the Secretary is also providing the guaranty agency's contact to obtain a copy of the proposal.

The agencies selected by the Secretary are:

1. American Student Assistance (ASA)

Proposal available from: www.amsa.com

2. California Student Aid Commission/EdFund (CSAC)

Proposal available from: www.csac.ca.gov

3. Colorado Student Loan Program (CSLP)

Proposal available from: www.cslp.org

4. Great Lakes Higher Education Assistance Corporation (GLHEAC)

Proposal available from: www.glhec.org

5. Pennsylvania Higher Education Assistance Authority (PHEAA)

Proposal available from: Peggy Shedden (717) 720-2660 or pshedden@pheaa.org

6. Texas Guaranteed Student Loan Corporation (TGSLC)

Proposal available from: www.tgslc.org

Electronic Access to this Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in Washington, DC, area at (202) 512-1530.

Note: The official version of this document is the document published in the Federal Register. Free Internet access to the official edition of the Federal Register and the Code of Federal Regulations is available on GPO Access at: http://www.access.gpo.gov/nara/index.html.

Program Authority: 20 U.S.C. 1078-1.

Dated: January 20, 2000.
Greg Woods,
Chief Operating Officer, Office of Student Financial Assistance.

[FR Doc. 00-2195 Filed 1-28-00; 11:11 am]

BILLING CODE 4000-01-U